DEPARTMENT OF TRANSPORTATION

Pipeline and Hazardous Materials Safety Administration

Hazardous Materials: Notice of Applications For Modification to Special Permits

AGENCY: Pipeline and Hazardous Materials Safety Administration (PHMSA), DOT.

ACTION: List of applications for modification of special permits.

SUMMARY: In accordance with the procedures governing the application for, and the processing of, special permits from the Department of Transportation's Hazardous Material Regulations, notice is hereby given that the Office of Hazardous Materials Safety has received the application described herein.

DATES: Comments must be received on or before December 22, 2025.

ADDRESSES: Record Center, Pipeline and Hazardous Materials Safety Administration U.S. Department of Transportation Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Each mode of transportation for which a particular special permit is requested is indicated by a number in the “Nature of Application” portion of the table below as follows: (1) Motor vehicle, (2) Rail freight, (3) Cargo vessel, (4) Cargo aircraft only, (5) Passenger-carrying aircraft.

Copies of the applications are available for inspection in the Records Center, East Building, PHH-13, 1200 New Jersey Avenue Southeast, Washington DC or at http://regulations.gov.

This notice of receipt of applications for special permit is published in accordance with part 107 of the Federal hazardous materials transportation law (49 U.S.C. 5117(b); 49 CFR 1.53(b)).

Issued in Washington, DC, on December 1, 2025.
Donald P. Burger,
Chief, General Approvals and Permits Branch.

Special Permits Data
Application No. | Applicant | Regulation(s) affected | Nature of the special permits thereof
7694-M | Applied Pressure Vessels, Inc | 173.302a, 175.3 | To modify the special permit to authorize an additional hazardous material. (modes 1, 2, 4).
8757-M | Milton Roy, LLC | 173.201(c), 173.202(c), 173.203(c), 173.302a(a)(1), 173.304a(a)(1) | To modify the special permit to authorize changes to the packaging. (modes 1, 2, 3, 4).
20646-M | Omni Tanker Pty. Ltd | 107.503(b), 107.503(c), 178.274(b), 178.274(c), 178.274(d), 172.102(c)(3), 172.102(c)(7)(ii) | To modify the special permit to authorize additional packaging construction specifications and additional hazardous materials. (modes 1, 2, 3).
21018 | Packaging and Crating Technologies, LLC | 173.185(c), 173.185(f) | To modify the special permit to authorize an increased WH rating. (modes 1, 2, 3).
21354-M | Resonac America, Inc | 171.23(a)(1), 171.23(a)(3) | To modify the special permit to authorize the cylinders to remain in service beyond five years. (modes 1, 3).
21784-M | Daicel Safety Systems (Jiangsu) Co., Ltd | 173.301(a)(1), 178.65(c)(3), 173.302(a)(1) | To modify the special permit to authorize an additional airbag inflator. (modes 1, 2, 3, 4).
21968-M | Caterpillar Inc | 172.101(j), 173.185(a)(1) | To modify the special permit to authorize the transportation in commerce of an additional marine module which has recently passed UN 38.3 testing (mode 4).

[FR Doc. 2025-22035 Filed 12-4-25; 8:45 am]

BILLING CODE P